DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 16, 2002.

Interested persons are invited to submit written comments regarding the subject matter of the investigations to the Director, Division of Trade Adjustment Assistance, at the address shown below, not later than August 16, 2002.

The petitions filed in this case are available for inspection at the Office of the Director, Division of Trade Adjustment Assistance, Employment and Training Administration, U.S. Department of Labor, Room C-5311, 200 Constitution Avenue, NW., Washington, DC 20210.

Signed at Washington, DC, this 24th day of June, 2002.
Edward A. Tomchick,
Director, Division of Trade Adjustment Assistance.

Appendix

Petitions Instituted on 06/24/2002

TA-W | Subject firm (petitioners) | Location | Date of petition | Product(s)
41,689 | Voluneer Knit Apparel (Comp) | Rutledge, TN | 06/11/2002 | Cotton Knits
41,690 | Peterson-Kruse Inc. (Comp) | Rockford, IL | 06/04/2002 | Electrician Hard Tools
41,691 | Montgomery Production (Comp) | Montgomery, IL | 06/11/2002 | Lipton Rice, Noodles, and Sauce
41,692 | SMS Sutton (IAMAW) | Bellefonte, PA | 05/24/2002 | Heavy Equipment
41,693 | Great Lakes Fleet, Inc. (USWA) | Duluth, MN | 05/20/2002 | Bulk Cargo Transport
41,694 | Joy Mining Machinery (IBB) | Mt. Vernon, IL | 06/03/2002 | Chains
41,695 | P.C.C. Airfoils (MWA) | Minerva, OH | 06/05/2002 | Metal Castings
41,696 | eMag Solutions LLC (Wrks) | Graham, TX | 06/05/2002 | Magnetic Computer Tape
41,697 | Silver Furniture (Comp) | Knoxville, TN | 06/06/2002 | Tables
41,698 | Volant Ski Co., LLC (Wrks) | Wheatridge, CO | 06/05/2002 | Alpine Skis
41,699 | Jean Michael's Inc. (UNITE) | Willimgboro, NJ | 06/03/2002 | Womens Apparel
41,700 | Flextronics International (Wrks) | Longmont, CO | 05/31/2002 | PCB Boards
41,701 | FCI Electronics (Wrks) | Etters, PA | 06/03/2002 | Fiber Optic Cables
41,702 | Farmland Industries, Inc (Comp) | Pollock, LA | 05/14/2002 | Nitrogen Fertilizer/Androus Ammonia
41,703 | E.I. DuPont (Comp) | Orange, TX | 06/04/2002 | Polyethylene/Plastics
41,704 | LTV Steel Tubular (USWA) | Marion, OH | 05/30/2002 | Flat Steel
41,705 | Cooper Crouse-Hinds (Wrks) | Roanoke, VA | 06/03/2002 | Compression Fittings
41,706 | Henry's Cutting Service (Wrks) | Hialeah, FL | 05/10/2002 | Cutting Services
41,707 | Jarvis East (Wrks) | Palmer, MA | 05/31/2002 | Casters and Wheels
41,708 | Rosemont Analytical (Comp) | Orrville, OH | 05/27/2002 | Combustibles
41,709 | Elbeco, Inc. (Wrks) | Meyersdale, PA | 05/29/2002 | Uniform Shirts
41,710 | Lander Co., Inc. (Comp) | Camarillo, CA | 05/30/2002 | Bath and Body Products
41,711 | A.O. Smith (Wrks) | McMinnville, TN | 05/14/2002 | Engineering Services
41,712 | Denim Processing Inc. (Comp) | Oneida, TN | 05/31/2002 | Jeans
41,713 | Wiegand Appliance | Vernon, AL | 06/10/2002 | Electronic Heating Elements
41,714 | J.R. Simplot Co (Comp) | Pocatello, ID | 06/07/2002 | Nitrogen & Phosphate
41,715 | Superior Essex (IUE) | Elizabethtown, KY | 05/17/2002 | Telephone Cable
41,716 | Motorola (Wrks) | Ft. Woth, TX | 05/21/2002 | Cell Phone Equipment
41,717 | IMI Cornelius (Wrks) | Anoka, MN | 06/04/2002 | Beverage Dispensers
41,718 | Grafx Packaging (Wrks) | Canal Wincheste, OH | 06/05/2002 | Folding Carton
41,719 | State of the Art, Inc. (Comp) | State College, PA | 06/14/2002 | Film Resistors
41,720 | New Boston Coke Corp (USWA) | New Boston, OH | 06/13/2002 | Coke
41,721 | Collins and Aikman (Wrks) | Marshall, MI | 05/22/2002 | Ribbon Mixers
41,722 | Maurice Silvera, Inc. (Wrks) | New York, NY | 05/28/2002 | Children's Clothing
41,723 | Snorkel Manufacturing (Comp) | Elwood, KS | 06/05/2002 | Telescopic Boom
41,724 | Lake City Manufacturing (Wrks) | Lake City, SC | 05/29/2002 | Shirts, Pants, Swimsuits etc
41,725 | Nu-Gro Technologies (UNITE) | Gloversville, NY | 05/31/2002 | Fertilizer
41,726 | Parker Dayco (Wrks) | Eldora, IA | 05/31/2002 | Shell Production Machine
41,727 | Solectron of Oregon (Wrks) | Hillsboro, OR | 06/06/2002 | Auto Electronic Safety Components
41,728 | Wesbar Corp (Comp) | Peru, IN | 05/29/2002 | Lights for Trailers
41,729 | Sirena Apparel Group (Wrks) | Los Angeles, CA | 05/29/2002 | Women and Children Swimwear
41,730 | Motorola, RFI (Wrks) | Phoenix, AZ | 03/18/2002 | Semiconductors
41,731 | ABB, Inc (Wrks) | Columbus, OH | 05/30/2002 | Process Control Equipment
41,732 | APL Logistics (Wrks) | Socorro, TX | 05/13/2002 | Electonics

[FR Doc. 02-19763 Filed 8-5-02; 8:45 am]

BILLING CODE 4510-30-M